INTERNATIONAL TRADE COMMISSION

[Investigation No. 337-TA-910]

Certain Television Sets, Television Receivers, Television Tuners, and Components Thereof; Commission Determination Not To Review an Initial Determination Granting a Complainant's Motion for Leave To Amend the Complaint and Notice of Investigation

AGENCY: U.S. International Trade Commission.

ACTION: Notice.

SUMMARY: Notice is hereby given that the U.S. International Trade Commission has determined not to review an initial determination (“ID”) (Order No. 12) of the presiding administrative law judge (“ALJ”) granting complainant's motion for leave to amend the complaint and notice of investigation.

FOR FURTHER INFORMATION CONTACT: Jia Chen, Office of the General Counsel, U.S. International Trade Commission, 500 E Street SW., Washington, DC 20436, telephone (202) 708-4737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 5, 2014, based on a complaint filed by Cresta Technology Corporation, of Santa Clara, California (“Cresta”), alleging violations of section 337 of the Tariff Act of 1930, as amended, 19 U.S.C. 1337, in the importation into the United States, the sale for importation, and the sale within the United States after importation of certain television sets, television receivers, television tuners, and components thereof by reason of infringement of certain claims of U.S. Patent Nos. 7,075,585; 7,265,792; and 7,251,466. 79 FR. 12526 (Mar 5, 2014). The notice of investigation named the following respondents: Silicon Laboratories, Inc. of Austin, Texas; Samsung Electronics Co. Ltd. Of Gyeonggi-do, Republic of Korea, Samsung Electronics America, Inc. of Ridgefield Park, New Jersey; LG Electronics, Inc. of Seoul, Republic of Korea, LG Electronics U.S.A. of Englewood Cliffs, New Jersey; MaxLinear, Inc. of Carlsbad, California; Sharp Corporation of Osaka, Japan, Sharp Electronics Corporation of Mahwah, New Jersey; and Vizio, Inc. of Irvine, California.

On April 21, 2014, Cresta filed a motion to amend the complaint and notice of investigation to add SIO International Inc., Hon Hai Precision Industry Co., Ltd., Wistron Corporation, Wistron Infocomm Technology (America) Corporation, Top Victory Investments Ltd., and TPV International (USA), Inc. (collectively, “Proposed Respondents”) as respondents.

On May 16, 2014, the presiding administrative law judge (“Judge Lord”) issued the subject ID (Order No. 12), over one opposition, granting Cresta's motion to amend the complaint and notice of investigation. The ALJ found that Cresta has demonstrated good cause to add the Proposed Respondents and that prejudice, if any, to the respondents will be minimal.

No petitions for review were filed.

The Commission has determined not to review the subject ID.

The authority for the Commission's determination is contained in Section 337 of the Tariff Act of 1930, as amended (19 U.S.C. 1337), and in Part 210 of the Commission's Rules of Practice and Procedure (19 CFR Part 210).

By order of the Commission.
Issued: June 9, 2014.
Lisa R. Barton,
Secretary to the Commission.

[FR Doc. 2014-13733 Filed 6-11-14; 8:45 am]

BILLING CODE 7020-02-P